TENNESSEE VALLEY AUTHORITY

Environmental Impact Statement—Proposed Watts Bar Reservoir Land Plan, Loudon, Meigs, Rhea, and Roane Counties, TN

AGENCY: Tennessee Valley Authority (TVA).

ACTION: Notice of public meeting and extension of public comment period.

SUMMARY: This notice is provided in accordance with the Council on Environmental Quality's regulations (40 CFR parts 1500 to 1508), Section 106 of the National Historic Preservation Act and its implementing regulations (36 CFR part 800), and TVA's procedures implementing the National Environmental Policy Act (NEPA). On February 25, 2004, TVA published a Notice of Intent to prepare an Environmental Impact Statement (EIS) for a proposed Reservoir Land Plan for Watts Bar Reservoir, in Loudon, Meigs, Rhea, and Roane Counties, Tennessee (Federal Register, Volume 69, Number 37, Pages 8793-8795). Subsequently, TVA published a notice in the Federal Register, extending the comment period for scoping of the EIS from April 15, 2004, to June 30, 2004 (Federal Register, Volume 69, Number 79, p. 21,880). Today's notice announces that the public scoping meeting for the EIS will take place on September 28, 2004, from 4 p.m. to 8 p.m., in the student lounge of Roane State Community College in Roane County Tennessee. Simultaneously, this notice further extends the comment period for the scoping phase of the environmental review to October 8, 2004. Written comments may be sent to the address specified below by October 8, 2004. Comments may also be provided in an oral or written format at the public scoping meeting. To facilitate public involvement, a public scoping form for gathering specific information will also be distributed at the public meeting and will be available on TVA's Web site at http://www.tva.com.

ADDRESSES: Written comments should be sent to Jon M. Loney, Manager, NEPA Administration, Environmental Policy and Planning, Tennessee Valley Authority, 400 West Summit Hill Drive, Knoxville, Tennessee 37902-1499.

FOR FURTHER INFORMATION CONTACT: Richard L. Toennisson, NEPA Specialist, Environmental Policy and Planning, Tennessee Valley Authority, 400 West Summit Hill Drive, WT 8C, Knoxville, Tennessee 37902-1499; telephone: (865) 632-8517; or e-mail: rltoennisson@tva.gov.

SUPPLEMENTARY INFORMATION: Within the scope of the proposed Watts Bar Reservoir Land Plan, TVA is reviewing a preliminary development proposal by Valley Land Corporation (VLC) to Meigs County and to TVA for a 310 acre mixed use commercial/residential development on TVA lands on Watts Bar Reservoir. If a formal proposal is submitted, the 237 acres of the existing Meigs County Park currently under a public recreation easement to Meigs County, and the 73 acres of TVA project lands on the Watts Bar Dam Reservation currently being used for public recreation could be considered for development in preparing the land plan and EIS. The proposal could include the use of 20 acres for residential and commercial/retail sites (restaurant, motel, retail shops, and marina with yacht sales); and the use of another 190 acres for a golf course and campground. No private water use facilities are proposed, residential boating access would be accommodated by a proposed marina.

Public Participation

TVA is interested in receiving comments on the scope of issues to be addressed in the Watts Bar Reservoir Land Plan EIS. Written comments on the scope of the EIS, including the range of alternatives that should be considered and the impacts to be assessed should be received on or before October 8, 2004. Comments may also be provided in an oral or written format at the public meeting for scoping which will take place on September 28, 2004, from 4 p.m. to 8 p.m., in the student lounge of Roane State Community College, 276 Patton Lane, Harriman, Tennessee. Information on the meeting will be announced in local newspapers, on the TVA Web page at http://www.tva.com, and may also be obtained by contacting the persons listed above. To facilitate public involvement, a public scoping form for gathering specific information will be distributed at the public meeting and will be available on TVA's Web site.

Dated: August 13, 2004.
Kathryn J. Jackson,
Executive Vice President, River System Operations and Environment.

[FR Doc. 04-18996 Filed 8-18-04; 8:45 am]

BILLING CODE 8120-08-P